DEPARTMENT OF COMMERCE

International Trade Administration

[A-602-806]

Antidumping Duty Order: Electrolytic Manganese Dioxide From Australia

AGENCY: Import Administration, International Trade Administration, Department of Commerce.

SUMMARY: Based on an affirmative final determination by the Department of Commerce (the Department) and the International Trade Commission (ITC), the Department is issuing the antidumping duty order on electrolytic manganese dioxide (EMD) from Australia.

DATES: Effective Date: October 7, 2008.

FOR FURTHER INFORMATION CONTACT: Hermes Pinilla at (202) 482-3477 or Minoo Hatten at (202) 482-1690, Import Administration, International Trade Administration, U.S. Department of Commerce, 14th Street and Constitution Avenue, NW., Washington, DC 20230.

SUPPLEMENTARY INFORMATION:

Background

On August 14, 2008, the Department published the final determination of sales at less than fair value of EMD from Australia. See Notice of Final Determination of Sales at Less Than Fair Value and Termination of Critical-Circumstances Investigation: Electrolytic Manganese Dioxide from Australia, 73 FR 47586 (August 14, 2008).

On September 26, 2008, the ITC notified the Department of its final determination pursuant to section 735(d) of the Tariff Act of 1930, as amended (the Act), that an industry in the United States is materially injured within the meaning of section 735(b)(1)(A)(i) of the Act by reason of less-than-fair-value imports of EMD from Australia. See Letter from the ITC to the Secretary of Commerce, “Notification of Final Affirmative Determination of Electrolytic Manganese Dioxide from Australia and the People's Republic of China,” Investigation Nos. 731-TA-1124 and 1125 (September 26, 2008). Pursuant to section 736(a) of the Act, the Department is publishing an antidumping duty order on the subject merchandise.

Scope of the Order

The merchandise covered by this order includes all manganese dioxide (MnO2) that has been manufactured in an electrolysis process, whether in powder, chip, or plate form. Excluded from the scope are natural manganese dioxide (NMD) and chemical manganese dioxide (CMD). The merchandise subject to this order is classified in the Harmonized Tariff Schedule of the United States (HTSUS) at subheading 2820.10.00.00. While the HTSUS subheading is provided for convenience and customs purposes, the written description of the scope of this order is dispositive.

Antidumping Duty Order

In accordance with section 736(a)(1) of the Act, the Department will direct U.S. Customs and Border Protection (CBP) to assess, upon further information from the Department, antidumping duties equal to the amount by which the normal value of the merchandise exceeds the export price (or the constructed export price) of the merchandise for all relevant entries of EMD from Australia. These antidumping duties will be assessed on all entries of EMD entered, or withdrawn from the warehouse, for consumption on or after March 26, 2008, the date on which the Department published its notice of preliminary determination in the Federal Register. See Notice of Preliminary Determination of Sales at Less Than Fair Value and Affirmative Preliminary Determination of Critical Circumstances: Electrolytic Manganese Dioxide from Australia, 73 FR 15982 (March 26, 2008).

Section 733(d) of the Act states that instructions issued pursuant to an affirmative preliminary determination may not remain in effect for more than four months except where exporters representing a significant proportion of exports of the subject merchandise request the Department to extend that four-month period to no more than six months. At the request of the exporter that accounts for a significant proportion of EMD in Australia, we extended the four-month period to no more than six months. See Letter from Delta EMD Australia Ltd. (March 25, 2008). In the underlying investigation, the six-month period beginning on the date of the publication of the preliminary determinations ended on September 22, 2008. Furthermore, section 737(b) of the Act states that definitive duties are to begin on the date of publication of the ITC's final injury determination. Therefore, in accordance with section 733(d) of the Act and our practice, we will instruct CBP to terminate the suspension of liquidation and to liquidate, without regard to antidumping duties, unliquidated entries of EMD from Australia entered, or withdrawn from warehouse, for consumption on or after September 22, 2008, through the day preceding the date of publication of the ITC's final injury determination in the Federal Register.

On and after the date of publication of the ITC's notice of final determination in the Federal Register, CBP will require, at the same time as importers would normally deposit estimated duties on this merchandise, cash deposits for the subject merchandise equal to the estimated weighted-average antidumping margins listed below.

Producer or exporter | Weighted-average margin (percent)
Delta EMD Australia Pty. Limited | 83.66
All Others | 83.66

This notice constitutes the antidumping duty order with respect to EMD from Australia, pursuant to section 736(a) of the Act. Interested parties may contact the Department's Central Records Unit, Room 1117 of the Main Commerce Building, for copies of an updated list of antidumping duty orders currently in effect.

This order is issued and published in accordance with section 736(a) of the Act and 19 CFR 351.211(b).

Dated: October 1, 2008.
David M. Spooner,
Assistant Secretary for Import Administration.

[FR Doc. E8-23603 Filed 10-6-08; 8:45 am]

BILLING CODE 3510-DS-P